NUCLEAR REGULATORY COMMISSION

[NRC-2024-0037]

NUREG: Event Report Guidelines for Immediate Notification Requirements for Operating Nuclear Power Reactors and Licensee Event Report System

AGENCY: Nuclear Regulatory Commission.

ACTION: Final report; issuance.

SUMMARY: The U.S. Nuclear Regulatory Commission (NRC) is issuing NUREG-1022, Revision 3, Supplement 2, concerning event report guidelines for immediate notification requirements for operating nuclear power reactors and the licensee event report system. NUREG-1022, Revision 3, Supplement 2, provides updated guidance for nuclear power reactor licensees and can be used for evaluating and reporting degraded or unanalyzed conditions as described in NRC regulations.

DATES: This document was published in the Federal Register on October 2, 2024.

ADDRESSES: Please refer to Docket ID NRC-2024-0037 when contacting the NRC about the availability of information regarding this document. You may obtain publicly available information related to this document using any of the following methods:

• Federal Rulemaking Website: Go to https://www.regulations.gov and search for Docket ID NRC-2024-0037. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Paul LaFlamme, Office of Nuclear Reactor Regulation, U.S. Nuclear Regulatory Commission, Washington, DC 20555-0001, telephone: 301-415-1184; email: Paul.LaFlamme@nrc.gov.

SUPPLEMENTARY INFORMATION:

I. Discussion

NUREG-1022, Revision 3, “Event Reporting Guidelines: 10 CFR 50.72 and 50.73,” issued January 2013 (ADAMS Accession No. ML13032A220), contains guidelines that the staff of the NRC considers acceptable for use in meeting the reporting requirements in section 50.72 of title 10 of the Code of Federal Regulations (10 CFR), “Immediate notification requirements for operating nuclear power reactors,” and 10 CFR 50.73, “Licensee event report system.” In August 2018, the Nuclear Energy Institute submitted a petition for rulemaking to amend 10 CFR 50.72 (ADAMS Accession No. ML18247A204). In 2021, the Commission directed the NRC staff to pursue the rulemaking (ADAMS Accession No. ML21209A953). As part of this rulemaking effort, the NRC determined that clarifications to the guidance in section 3.2.4, “Degraded or Unanalyzed Condition,” of NUREG 1022, Revision 3, could address part of the concerns identified in the petition. In developing draft Supplement 2 to NUREG 1022, Revision 3, the NRC evaluated data on submitted and retracted events and held a public meeting on August 9, 2023 (ADAMS Accession No. ML23270B927), to discuss section 3.2.4 of NUREG 1022 with stakeholders.

The NRC published a notice in the Federal Register on April 17, 2024 (89 FR 27463) requesting public comment on draft Supplement 2 to NUREG 1022, Revision 3 (ADAMS Package Accession No. ML24036A109). The public comment period closed on June 17, 2024. The NRC received two public comments. The public comments and the NRC staff's responses are presented in a comment resolution memo available in ADAMS under Accession No. ML24197A131.

NUREG-1022, Revision 3, Supplement 2 (ADAMS Accession No. ML24191A376), provides updated guidance for nuclear power reactor licensees and can be used for evaluating and reporting degraded or unanalyzed conditions as described in 10 CFR 50.72(b)(3)(ii) and 10 CFR 50.73(a)(2)(ii). The specific guidance included in Supplement 2 supersedes the guidance found in section 3.2.4 of NUREG-1022, Revision 3.

II. Backfitting, Forward Fitting, and Issue Finality

Issuance of NUREG-1022, Revision 3, Supplement 2, does not constitute backfitting as defined in 10 CFR 50.109, “Backfitting,” and as described in NRC Management Directive (MD) 8.4, “Management of Backfitting, Forward Fitting, Issue Finality, and Information Requests”; affect issue finality of any approval issued under 10 CFR part 52, “Licenses, Certificates, and Approvals for Nuclear Power Plants”; or constitute forward fitting as defined in MD 8.4, because licensees are not required to comply with the guidance in Supplement 2.

III. Congressional Review Act

NUREG-1022, Revision 3, Supplement 2, is a rule as defined in the Congressional Review Act (5 U.S.C. 801-808). However, the Office of Management and Budget has not found it to be a major rule as defined in the Congressional Review Act.

Dated: September 26, 2024.
For the Nuclear Regulatory Commission.
Lisa Regner,
Chief, Generic Communications and Operating Experience Branch, Division of Reactor Oversight, Office of Nuclear Reactor Regulation.

[FR Doc. 2024-22556 Filed 10-1-24; 8:45 am]

BILLING CODE 7590-01-P